DEPARTMENT OF THE INTERIOR

Fish and Wildlife Service

Receipt of an Application and Availability of Environmental Assessment for an Incidental Take Permit for Commercial Development in Lake County, FL

AGENCY: Fish and Wildlife Service, Interior.

ACTION: Notice.

SUMMARY: Richard E. Bosserman and Charles E. Bosserman III (Applicants) request an incidental take permit (ITP) for a 10-year term, pursuant to section 10(a)(1)(B) of the Endangered Species Act of 1973, as amended (Act). The Applicants anticipate taking sand skinks (Neoseps reynoldsi) and bluetail mole skinks (Eumeces egregious) (cumulatively referred to as skinks) resulting from land clearing and site preparation for commercial construction on about 75 acres near Clermont, Lake County, Florida.

The Applicants' HCP describes the mitigation and minimization measures proposed to address the effects commercial construction on the skinks. These measures are outlined in the SUPPLEMENTARY INFORMATION section below. We announce the availability of the ITP application, HCP, and an Environmental Assessment (EA).

DATES: Written comments on the ITP application, EA, and HCP should be sent to the Service's Regional Office (see ADDRESSES) and should be received on or before April 17, 2006.

ADDRESSES: Persons wishing to review the application, EA, and HCP may obtain a copy by writing the Service's Southeast Regional Office, Atlanta, Georgia. Please reference permit number TE105732-0 in such requests. Documents will also be available for public inspection by appointment during normal business hours at the Regional Office, 1875 Century Boulevard, Suite 200, Atlanta, Georgia 30345 (Attn: Endangered Species Permits), or Field Supervisor, U.S. Fish and Wildlife Service, 6620 Southpoint Drive South, Suite 310, Jacksonville, Florida 32216-0912.

FOR FURTHER INFORMATION CONTACT: Mr. David Dell, Regional HCP Coordinator, (see ADDRESSES above), telephone: 404/679-7313, facsimile: 404/679-7081; or Mr. Michael Jennings, Fish and Wildlife Biologist, Jacksonville Field Office, Jacksonville, Florida (see ADDRESSES above), telephone: 904/232-2580, ext. 113.

SUPPLEMENTARY INFORMATION: If you wish to comment, you may submit comments by any one of several methods. Please reference permit number TE105732-0 in such comments. You may mail comments to the Service's Regional Office (see ADDRESSES). You may also comment via the internet to david_dell@fws.gov. Please submit comments over the internet as an ASCII file avoiding the use of special characters and any form of encryption. Please also include your name and return address in your internet message. If you do not receive a confirmation from us that we have received your internet message, contact us directly at either telephone number listed below (see FURTHER INFORMATION CONTACT). Finally, you may hand deliver comments to either Service office listed below (see ADDRESSES). Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. We will not, however, consider anonymous comments. We will make all submissions from organizations or businesses, and from individuals identifying themselves as representatives or officials of organizations or businesses, available for public inspection in their entirety.

The blue-tailed mole skink is a small, slender lizard that occupies xeric upland habitats in central peninsular Florida. It requires open, sandy patches interspersed with vegetation. The blue-tailed mole skink is highly adapted for life in the sand; it spends the majority of time below the surface where it moves through loose sand in search of food, shelter, and mates. Much of the blue-tailed mole skink's historic habitat has been destroyed or degraded because of fragmentation due to residential, commercial, and agricultural development. Habitat protection and management are essential for the survival of this species.

The sand skink is a small, semi-fossorial lizard that occurs on the sandy ridges of interior central Florida from Marion County south to Highlands County. The species is vulnerable because of habitat loss due to conversion to residential, commercial, and agricultural uses and from habitat degradation due to fire exclusion. The recovery of sand skinks will require restoration of habitat and possible reintroduction of individuals into successfully restored habitat.

Xeric uplands within the Lake Wales Ridge have declined in distribution and ecological quality over the past 100 years. Urban and agricultural development in this area has resulted in substantial losses of habitat; by the early 1980's habitat loss was estimated at 66 percent. Since then additional losses are attributed to increasing urban growth, particularly in the northern portions of the action area. Severe freezes during the mid-1980's also resulted in a shift in citrus production from north central Florida to south Florida which resulted in further loss of xeric uplands. Recent estimates indicate that 70 to 80 percent of the xeric uplands in Florida have been lost or degraded. Within the Lake Wales Ridge, about 85 percent of xeric uplands have been lost.

In addition to the direct destruction of xeric uplands within the Project area, increasing fragmentation has resulted in the degradation of many of the remaining parcels of habitat. These xeric communities require periodic fire to maintain their ecological and biological functions and values. Urban and agricultural uses now interspersed between xeric upland habitats do not allow the natural periodicity or magnitude of fires that once spread across this xeric landscape. In most instances, fire suppression is practiced to protect human health and the safety of property. Lacking fire, xeric uplands tend towards more mesic conditions, which include denser vegetative canopies and more heterogeneous vegetative structure. Under these conditions, many of the species that evolved in presence of periodic fires and low structural diversity diminish in abundance and eventually are extirpated.

The Applicants biological surveys determined that about 5.5 acres of the 75-acre parcel is occupied by sand skinks and the Fish and Wildlife Service believes that bluetail mole skinks also occupy the same 5.5 acres. The Applicants' proposed construction activities would result in harm to skinks due to destruction of foraging, sheltering, and nesting habitat. The Applicants' proposed commercial construction would result in the loss of 5.5 acres of occupied skink habitat that is isolated due to surrounding urban development. Avoidance or minimized impact of the occupied skink habitat was determined to be too costly to the Applicant. In addition, conserving skink habitat on site would only maintain habitat that would be increasingly isolated from other skink habitat. The Applicants' mitigation proposes to acquire, perpetually protect, and manage 10 acres of skink habitat at an off-site location and donate $20,000 for use in skink habitat acquisition. Take of skinks is anticipated due to commercial development of the Applicants' property, while the off-site mitigation proposed by the Applicants will result in conservation benefits to skinks and several other species endemic to xeric scrub.

The Service has made a preliminary determination that issuance of the requested ITP is not a major Federal action significantly affecting the quality of the human environment within the meaning of Section 102(2)(C) of National Environmental Policy Act. This preliminary information may be revised due to public comment received in response to this notice and is based on information contained in the EA and HCP. This notice is provided pursuant to Section 10 of the Endangered Species Act (16 U.S.C. 1531 et seq.) and NEPA regulations (40 CFR 1506.6).

The Service will evaluate the HCP and comments submitted thereon to determine whether the application meets the issuance criteria requirements of section 10(a)(1)(B) of the Act. By conducting an intra-Service section 7 consultation the Service will also evaluate whether issuance of the section 10(a)(1)(B) ITP would comply with section 7 of the Act. The results of this consultation, in combination with the above findings, will be used in the final analysis to determine whether or not to issue the ITP.

Dated: January 29, 2006.
Cynthia K. Dohner,
Acting Regional Director, Southeast Region.

[FR Doc. E6-1960 Filed 2-13-06; 8:45 am]

BILLING CODE 4310-55-P